DEPARTMENT OF AGRICULTURE

Forest Service

Hood/Willamette Resource Advisory Committee (RAC)

AGENCY: Forest Service, USDA.

ACTION: Notice of meeting.

SUMMARY: The Hood/Willamette Resource Advisory Committee (RAC) will meet on Friday, April 24, 2009. The meeting is scheduled to begin at 9:30 a.m. and will conclude at approximately 12 p.m. The meeting will be held at Salem Office of the Bureau of Land Management Office; 1717 Fabry Road SE; Salem, Oregon; (503) 375-5646. The tentative agenda includes: (1) Orientation; (2) Election of chairperson; (3) Decision on overhead rate for 2009 and 2010 projects; (4) Presentation of 2009 and 2010 Projects; and (5) Public Forum.

The Public Forum is tentatively scheduled to begin at 10:30 a.m. Time allotted for individual presentations will be limited to 4-5 minutes. Written comments are encouraged, particularly if the material cannot be presented within the time limits for the Public Forum. Written comments may be submitted prior to the April 24th meeting by sending them to Donna Short at the address given below.

FOR FURTHER INFORMATION CONTACT: For more information regarding this meeting, contact Donna Short; Sweet Home Ranger District; 4431 Highway 20; Sweet Home, Oregon 97386; (541) 367-3540.

Dated: March 11, 2009.
Dallas J. Emch,
Forest Supervisor.

[FR Doc. E9-5799 Filed 3-18-09; 8:45 am]

BILLING CODE 3410-11-M